DEPARTMENT OF AGRICULTURE

Federal Crop Insurance Corporation

7 CFR Part 457

[Docket No. FCIC -18-0002]

RIN 0563-AC57

Common Crop Insurance Regulations; Forage Seeding Crop Insurance Provisions; Withdrawal

AGENCY: Federal Crop Insurance Corporation, USDA.

ACTION: Notice of withdrawal of final rule.

SUMMARY: This action informs the public that the Federal Crop Insurance Corporation (FCIC) is withdrawing a final rule with request for comments published in the Federal Register on December 10, 2018, titled Common Crop Insurance Regulations; Forage Seeding Crop Insurance Provisions. FCIC updated the Forage Seeding Crop Provisions (CP) to better reflect current agricultural practices and allow for variations in insurance provisions based on regionally-specific agronomic conditions and potential future expansions. The Forage Seeding CP cover losses from insured perils during the year of planting forage and would provide continuous coverage throughout the year of planting effective for the 2020 crop year. FCIC withdraws the Forage Seeding final rule due to the need to address outstanding issues, conduct additional research, and obtain data for program expansion to ensure continuous coverage between the year of planting and after the crop has been established.

DATES: As of March 26, 2019, the final rule with request for comments published on December 10, 2018, at 83 FR 63383, is withdrawn.

FOR FURTHER INFORMATION CONTACT: Francie Tolle, Director, Product Management, Product Administration and Standards Division, Risk Management Agency, United States Department of Agriculture, Beacon Facility, Stop 0812, Room 421, P.O. Box 419205, Kansas City, MO 64141-6205, telephone (816) 926-7730.

SUPPLEMENTARY INFORMATION: FCIC is withdrawing the Forage Seeding CP Final Rule with request for comments published on December 10, 2018 (83 FR 63383-63389). These changes were to be effective for the April 30, 2019, contract change date for the 2020 crop year.

The Forage Seeding CP provide insurance during the year of planting the forage. The Forage Production CP allow insurance to continue after the forage crop has been established. The two policies are connected and must be considered together. FCIC intended to immediately follow the Forage Seeding Final Rule with a Forage Production Final Rule, to be published effective June 30, 2019.

Due to the need to address outstanding issues for the Forage Seeding Final Rule identified during the comment period, obtain data for program expansion, and prepare and publish the Forage Production Final Rule to be effective for the same crop year as the Forage Seeding, FCIC withdraws the Forage Seeding Final Rule and will resubmit simultaneously with the Forage Production final rule at a later date.

Therefore, as of March 26, 2019, the final rule with request for comments published on December 10, 2018, at 83 FR 63383, is withdrawn.

Martin Barbre,
Manager, Federal Crop Insurance Corporation.

[FR Doc. 2019-05718 Filed 3-25-19; 8:45 am]

BILLING CODE 3410-08-P